DEPARTMENT OF THE TREASURY

Customs Service

Customs COBRA Fees Advisory Committee

AGENCY: U.S. Customs Service, Department of the Treasury.

ACTION: Notice of meeting.

SUMMARY: This document announces a change to the date and time of the first scheduled meeting of the U.S. Customs COBRA Fees Advisory Committee. This notice also publishes the provisional agenda for the meeting and identifies representatives from the private sector transportation industry that have been appointed by the Commissioner of Customs as COBRA Fees Advisory Committee members.

DATES: The first meeting of the U.S. Customs COBRA Fees Advisory Committee has been rescheduled for July 15, 2002, from 1 p.m. to 3 p.m., in room 6.4-B of the Ronald Reagan Building located at 1300 Pennsylvania Avenue, NW., Washington, DC 20229. Interested parties must provide Customs with notice of their intent to attend the meeting by July 11, 2002. Notice may be provided to Carlene Warren at (202) 927-1391 or via e-mail at Carlene.warren@customs.treas.gov.

FOR FURTHER INFORMATION CONTACT: Carlene Warren, U.S. Customs Service, Office of Field Operations, Passenger Programs, at (202) 927-1391 or via e-mail at Carlene.warren@customs.treas.gov.

SUPPLEMENTARY INFORMATION:

Background

Section 13031 of the Consolidated Omnibus Budget Reconciliation Act (COBRA) of 1985 (19 U.S.C. 58c), as amended by the Miscellaneous Trade and Technical Corrections Act of 1999 (Pub. L. 106-36), directs the Commissioner of Customs to establish an advisory committee whose membership consists of representatives from the airline, cruise ship, and other transportation industries who may be subject to fees under 19 U.S.C. 58c.

The Committee will advise the Commissioner of Customs on issues relating to inspection services performed by the Customs Service, including issues pertaining to the time periods during which inspections should be performed, the proper number and deployment of inspection officers, and the amount of any proposed fees.

The Commissioner of Customs has appointed the following representatives from the private sector transportation industry as COBRA Fees Advisory Committee members:

(1) Kathy Hansen, Manager, Customs Compliance Con-Way Transportation Services, Inc.;

(2) Ann W. White, Director of Industry Affairs, American Airlines;

(3) Barbara Kostuk, Director, Federal Affairs & Facilitation Air Transport Association;

(4) Benson Bowditch, Jr., Manager, Compliance Department Lykes Brothers Steamship Company; and

(5) Joseph Mangiaracino, Team Leader, National Customer Service Center Union Pacific Railroad.

On June 14, 2002, a notice published in the Federal Register (67 FR 40983) announced that the first COBRA Fee Advisory Committee meeting was scheduled for June 28, 2002.

This notice announces that the meeting has been rescheduled. The first meeting of the COBRA Fees Advisory Committee is now scheduled for July 15, 2002, from 1 p.m. to 3 p.m., in room 6.4-B of the Ronald Reagan Building located at 1300 Pennsylvania Avenue, NW., Washington, DC 20229. The meeting is open to the public; however, participation in the Committee's deliberations is limited to Committee members and Customs and Treasury Department staff. Interested parties, other than Advisory Committee members, who wish to attend the meeting should contact Carlene Warren by July 11, 2002, at (202) 927-1391 or via e-mail at Carlene.warren@customs.treas.gov.

At this meeting, the Advisory Committee is expected to pursue the following agenda. The agenda may be modified prior to the meeting.

Agenda

I. Opening remarks by COBRA Fees Advisory Committee Chairperson, Deputy Commissioner of the U.S. Customs Service, Douglas M. Browning

II. Briefing by Office of Finance—Budget

III. Topics for Discussion

1. Consideration of New Fees:

a. In Light of New Security Procedures and Equipment;

b. Fees on Cargo

IV. Other Business

V. Adjourn

Dated: July 3, 2002.
Douglas M. Browning,
Deputy Commissioner of Customs.

[FR Doc. 02-17114 Filed 7-5-02; 8:45 am]

BILLING CODE 4820-02-P